DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on air quality issues relating to agriculture.

DATES: The meeting will convene on Thursday, November 6, 2008, from 9 a.m. to 4:30 p.m., and Friday, November 7, 2008, from 9 a.m. to 4:30 p.m. A public comment period will be held on November 6, 2008, at 3:15 p.m. Individuals making oral presentations should register in person at the meeting site and must bring 50 copies of materials they would like to distribute. Written materials for AAQTF's consideration prior to the meeting must be received by Michele Laur (address given below) no later than October 24, 2008.

ADDRESSES: The meeting will be held at the Doubletree Hotel located at 300 Army Navy Drive, Arlington, Virginia, 22202-2891; Tel: (703) 416-4100; Fax: (703) 416-4126.

FOR FURTHER INFORMATION, CONTACT: Questions and comments should be directed to Michele Laur, Designated Federal Officer. Ms. Laur may be contacted at USDA NRCS, 1400 Independence Avenue, SW., Room 6165-S, Washington, DC 20250; telephone: (202) 720-1858: e-mail: michele.laur@wdc.usda.gov.

SUPPLEMENTARY INFORMATION: Notice of this meeting is given under the Federal Advisory Committee Act, 5 U.S.C. App. 2. Additional information concerning the AAQTF, may be found on the World Wide Web at: http://www.airquality.nrcs.usda.gov/AAQTF/. Draft Agenda of the November 2008 Meeting of the AAQTF*:

Thursday, November 6, 2008

A. Welcome to Washington, DC.

B. Discussion of the Task Force Role and Responsibilities.

C. Discussion of Climate Change and Renewable Fuels Issues.

Friday, November 7, 2008

D. Discussion of Subcommittee Activities.

E. USDA Agency Reports.

F. Next Meeting, Time and Place.

(Time is reserved on November 6, 2008, to receive public comment. Individual presentations will be limited to 5 minutes).

*Please note that the timing of events in the agenda is subject to change to accommodate changing schedules of expected speakers.

Procedural

This meeting is open to the public. At the discretion of the Chair, members of the public may give oral presentations during the meeting. Those persons wishing to make oral presentations should register in person at the meeting site. Those wishing to distribute written materials at the meeting (in conjunction with spoken comments) must bring 50 copies of the materials. Written materials for distribution to AAQTF members prior to the meeting must be received by Ms. Laur no later than October 24, 2008.

Information on Services for Individuals With Disabilities

For information on facilities or services for individuals with disabilities, or to request special assistance at the meeting, please contact Ms. Laur. USDA prohibits discrimination in its programs and activities on the basis of race, color, national origin, gender, religion, age, sexual orientation, or disability. Additionally, discrimination on the basis of political beliefs and marital or family status also is prohibited by statutes enforced by USDA (not all prohibited bases apply to all programs). Persons with disabilities who require alternate means for communication of program information (Braille, large print, audio tape, etc.) should contact USDA's Target Center at (202) 720-2000 (voice and TDD). USDA is an equal opportunity provider and employer.

Signed in Washington, DC on October 1, 2008.
Arlen L. Lancaster,
Chief.

[FR Doc. E8-24184 Filed 10-9-08; 8:45 am]

BILLING CODE 3410-16-P